DEPARTMENT OF ENERGY

Federal Energy Regulatory Commission

[Docket No. EC01-63-000, et al.]

Niagara Mohawk Holdings, Inc., et al.; Electric Rate and Corporate Regulation Filings

February 6, 2001.

Take notice that the following filings have been made with the Commission:

1. Niagara Mohawk Holdings, Inc. and National Grid USA

[Docket No. EC01-63-000]

Take notice that on February 1, 2001, Niagara Mohawk Holdings, Inc. (Niagara Mohawk Holdings) and National Grid USA filed with the Federal Energy Regulatory Commission an application pursuant to Section 203 of the Federal Power Act for authorization of the indirect change in control over the jurisdictional assets of Niagara Mohawk Power Corporation, Niagara Mohawk Energy Marketing, Inc., Canadian Niagara Power Company, Limited, New England Power Company, Massachusetts Electric Company, The Narragansett Electric Company, New England Electric Transmission Corporation, New England Hydro-Transmission Corporation, and New England Hydro-Transmission Electric Company, Inc. that will occur as a result of the acquisition of Niagara Mohawk Holdings by New National Grid Limited (Newco) (the Merger). Just prior to the Merger, The National Grid Group plc (National Grid) will undergo a corporate reorganization whereby Newco will be the new holding company over the National Grid system, and Newco's new name will be “National Grid Group plc.” As a result, National Grid USA and its jurisdictional subsidiaries will be wholly-owned subsidiaries of National Grid Group plc.

Upon consummation of the Merger, Niagara Mohawk Holdings, Niagara Mohawk Power Corporation, and Niagara Mohawk Energy Marketing, Inc. will become indirect, wholly-owned subsidiaries of National Grid Group plc. Niagara Mohawk Holdings' shares will be canceled and its shareholders will receive approximately $19.00 per Niagara Mohawk Holdings share in cash or American Depositary Shares, or a combination of both.

Comment date: April 2, 2001, in accordance with Standard Paragraph E at the end of this notice.

2. Reliant Energy Mid-Atlantic Power Holdings, L.L.C.

[Docket No. EG01-44-000]

Take notice that on January 22, 2001, Reliant Energy Mid-Atlantic Power Holdings, L.L.C. (Applicant), having its principal place of business at Johnstown, Pennsylvania, filed with the Federal Energy Regulatory Commission (FERC or the Commission) an amended and restated application for a determination of exempt wholesale generator (EWG) status pursuant to Part 365 of the Commission's regulations.

The Applicant is a limited liability company formed under the laws of the State of Delaware. Applicant is engaged, directly or indirectly through an affiliate as defined in Section 2(a)(11)(B) of the Public Utility Holding Company Act of 1935 (PUHCA), exclusively in owning or both owning and operating eligible electric facilities activities incidental to such eligible electric facilities as authorized under PUHCA. Applicant will enter into a lease agreement incidental to its ownership interest in the Keystone Electric Steam Station.

Comment date: February 27, 2001, in accordance with Standard Paragraph E at the end of this notice. The Commission will limit its consideration of comments to those that concern the adequacy or accuracy of the application.

3. Larry Wood

[Docket No. ID-3598-000]

Take notice that on January 31, 2001, the above-named individual filed with the Federal Energy Regulatory Commission an application for authority to hold an interlocking position in Community Bank (Cabot, Arkansas) and First Electric Cooperative Corporation.

Comment date: March 2, 2001, in accordance with Standard Paragraph E at the end of this notice.

4. Robert M. Hill

[Docket No. ID-3599-000]

Take notice that on January 31, 2001, the above-named individual filed with the Federal Energy Regulatory Commission an application for authority to hold an interlocking position in Perry County Bank and First Electric Cooperative Corporation.

Comment date: March 2, 2001, in accordance with Standard Paragraph E at the end of this notice.

5. James Alton Higginbotham

[Docket No. ID-3600-000]

Take notice that on January 31, 2001, the above-named individual filed with the Federal Energy Regulatory Commission an application for authority to hold an interlocking position in First Arkansas Bank and Trust and First Electric Cooperative Corporation.

Comment date: March 2, 2001, in accordance with Standard Paragraph E at the end of this notice.

6. Alliant Energy Corporate Services, Inc. (on behalf of IES Utilities, Inc. and Interstate Power Company), American Transmission Company LLC, Central Illinois Light Company, Cinergy Corp. (on behalf of Cincinnati Gas & Electric Company, PSI Energy, Inc., and Union Light, Heat & Power), Hoosier Energy Rural Electric Coop., Inc., Kentucky Utilities Company, Louisville Gas & Electric Company, Northern States Power Company (Minnesota) Northern States Power Company (Wisconsin), Southern Indiana Gas & Electric Company, and Upper Peninsula Power Company

[Docket No. RT01-96-000]

Take notice that on January 31, 2001, the Specified Transmission Owners listed above submitted an errata to their January 16, 2001 filing in Docket No. RT01-96-000 intended to add the Upper Peninsula Power Company as one of the Specified Transmission Owners participating in that filing.

Copies of this filing have been served on all parties who were served copies of the January 16th Filing.

Comment date: March 12, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 01-3684 Filed 2-13-01; 8:45 am]

BILLING CODE 6717-01-P